DEPARTMENT OF ENERGY

Federal Energy Regulatory Commission

[Project No. 2601-040]

Duke Energy Carolinas, LLC;

Notice of Application Accepted for Filing and Soliciting Comments, Motions To Intervene, and Protests

Take notice that the following hydroelectric application has been filed with the Commission and is available for public inspection:

a. Application Type: Request to amend the project boundary.

b. Project No: 2601-040.

c. Date Filed: September 23, 2015.

d. Applicant: Duke Energy Carolinas, LLC.

e. Name of Project: Bryson Hydroelectric Project.

f. Location: Oconaluftee River in Swain County, North Carolina.

g. Filed Pursuant to: Federal Power Act, 16 U.S.C. 791a-825r.

h. Applicant Contact: Jeff Lineberger, Director of Water Strategy & Hydro Licensing, Duke Energy, 526 South Church Street, Charlotte, North Carolina 28202-1006; Telephone: (704) 382-5942; Email: jeff.lineberger@duke-energy.com.

i. FERC Contact: Mark Carter at (678) 245-3083; Email: mark.carter@ferc.gov.

j. Deadline for filing comments, motions to intervene, and protests: October 30, 2015.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2601-040.

k. Description of Request: Duke Energy Carolinas, LLC proposes to amend the project boundary in order to resolve a property ownership issue with the Eastern Band of Cherokee Indians who owns lands adjacent to the project. The proposed project boundary would include 0.41 acre of new lands and exclude 5.66 acres of existing project lands for a net decrease of 5.25 acres of project lands, and would result in a decrease in the amount of shoreline in the project boundary from 2.11 miles to 2.10 miles. The application states that the proposed project boundary would only include property that is necessary for the safe and effective operation of the project, and states that the removal of project lands would not affect operations, public infrastructure, recreational use, or environmental resources.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-2601) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: September 30, 2015.
Kimberly D. Bose,
Secretary.

[FR Doc. 2015-25381 Filed 10-5-15; 8:45 am]

BILLING CODE 6717-01-P